POSTAL SERVICE

Product Change—Standard Mail Negotiated Service Agreement

AGENCY: Postal Service™.

ACTION: Notice.

SUMMARY: The Postal Service gives notice of filing a request with the Postal Regulatory Commission to add a Standard Mail negotiated service agreement to the market-dominant product list within the Mail Classification Schedule.

DATES: Effective date: March 12, 2014.

FOR FURTHER INFORMATION CONTACT: Elizabeth A. Reed, 202-268-3179.

SUPPLEMENTARY INFORMATION: The United States Postal Service® hereby gives notice that on March 5, 2014, pursuant to 39 U.S.C. 3642 and 3622(c)(10), it filed with the Postal Regulatory Commission a Notice of the United States Postal Service of Filing of Contract and Supporting Data and Request to Add PHI Acquisitions, Inc. Negotiated Service Agreement to the Market-Dominant Product List. Documents are available at www.prc.gov, Docket Nos. MC2014-21, R2014-6.

Stanley F. Mires,
Attorney, Legal Policy & Legislative Advice.

[FR Doc. 2014-05310 Filed 3-11-14; 8:45 am]

BILLING CODE 7710-12-P